DEPARTMENT OF TRANSPORTATION

Federal Aviation Administration

14 CFR Part 39

[Docket No. FAA-2013-0627; Directorate Identifier 2012-NM-021-AD]

RIN 2120-AA64

Airworthiness Directives; BAE Systems (Operations) Limited Airplanes

AGENCY: Federal Aviation Administration (FAA), Department of Transportation (DOT).

ACTION: Proposed rule; withdrawal.

SUMMARY: The FAA withdraws a notice of proposed rulemaking (NPRM) that proposed a new airworthiness directive (AD), which would have applied to all BAE Systems (Operations) Limited Model BAe 146 series airplanes and Model Avro 146-RJ series airplanes. The NPRM would have superseded AD 2011-24-06 and required revising the maintenance program to incorporate new airworthiness limitations for reduced safe life limits on certain nose landing gear fittings. Since the NPRM was issued, we have received new data indicating that the airworthiness limitations contained in section 5 of the aircraft maintenance manual has been revised to include additional tasks and limitations. Accordingly, the NPRM is withdrawn.

DATES: As of August 28, 2015, the proposed rule, which was published in the Federal Register on July 24, 2013 (78 FR 44469), is withdrawn.

ADDRESSES: You may examine the AD docket on the Internet at http://www.regulations.gov by searching for and locating Docket No. FAA-2013-0627; or in person at the Docket Management Facility between 9 a.m. and 5 p.m., Monday through Friday, except Federal holidays. The AD docket contains this AD action, the NPRM (78 FR 44469, July 24, 2013), the regulatory evaluation, any comments received, and other information. The address for the Docket Office (telephone 800-647-5527) is the Docket Management Facility, U.S. Department of Transportation, Docket Operations, M-30, West Building Ground Floor, Room W12-140, 1200 New Jersey Avenue SE., Washington, DC 20590.

FOR FURTHER INFORMATION CONTACT: Todd Thompson, Aerospace Engineer, International Branch, ANM-116, Transport Airplane Directorate, FAA, 1601 Lind Avenue SW., Renton, WA 98057-3356; telephone 425-227-1175; fax 425-227-1149.

SUPPLEMENTARY INFORMATION:

Discussion

We proposed to amend part 39 of the Federal Aviation Regulations (14 CFR part 39) with a notice of proposed rulemaking (NPRM) for a new AD for all BAE Systems (Operations) Limited Model BAe 146 series airplanes and Model Avro 146-RJ series airplanes. The NPRM published in the Federal Register on July 24, 2013 (78 FR 44469). The NPRM would have superseded AD 2011-24-06, Amendment 39-16870 (76 FR 73477, November 29, 2011). The NPRM would have continued to require existing limitations and would have required revising the maintenance program to incorporate the following limitations:

• Subject 05-10-15, “Aircraft Equipment Airworthiness Limitations,” of Chapter 05, “Time Limits/Maintenance Checks,” of BAe 146 Series/AVRO 146-RJ Series Aircraft Maintenance Manual, Revision 105, dated July 15, 2011.

• Subject 05-20-02, “Airframe Scheduled Maintenance—Landing/Calendar Life Extended,” of Chapter 05, “Time Limits/Maintenance Checks,” of BAe 146 Series/AVRO 146-RJ Series Aircraft Maintenance Manual, Revision 105, dated July 15, 2011.

• Subject 05-20-05, “Airframe Scheduled Maintenance—Life Extension Programme Landings Life Extended,” of Chapter 05, “Time Limits/Maintenance Checks,” of BAe 146 Series/AVRO 146-RJ Series Aircraft Maintenance Manual, Revision 105, dated July 15, 2011.

The NPRM was prompted by a determination that reduced safe life limits on certain nose landing gear NLG fittings were necessary. Analysis of these fittings showed the presence of forging indications in the flash line, which could reduce the life limits of these fittings. The proposed actions were intended to prevent fatigue cracking of certain structural elements, which could adversely affect the structural integrity of the airplane.

Actions Since NPRM (78 FR 44469, July 24, 2013) Was Issued

Since we issued the NPRM (78 FR 44469, July 24, 2014), BAE Systems (Operations) Limited has revised Chapter 05, “Time Limits/Maintenance Checks,” of the BAe 146 Series/AVRO 146-RJ Series Aircraft Maintenance Manual (AMM). Therefore, the NPRM proposal to incorporate new airworthiness limitations with reduced safe life limits on certain nose landing gear fittings contained in a previous issue of the AMM are no longer relevant.

FAA's Conclusions

Upon further consideration, we have determined that the changes to the AMM proposed in the NPRM (78 FR 44469, July 24, 2013) are no longer relevant and there is no benefit to proceeding with the publication of a final rule. Accordingly, the NPRM is withdrawn. The FAA is considering issuing a different rulemaking action to require implementation of the current revision of BAE Systems (Operations) Limited Chapter 05, “Time Limits/Maintenance Checks,” of the BAe 146 Series/AVRO 146-RJ Series AMM.

Withdrawal of the NPRM (78 FR 44469, July 24, 2013) does not preclude the FAA from issuing another related action or commit the FAA to any course of action in the future.

Regulatory Impact

Since this action only withdraws an NPRM (78 FR 44469, July 24, 2013), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2013-0627, Directorate Identifier 2012-NM-021-AD, which was published in the Federal Register on July 24, 2013 (78 FR 44469).

Issued in Renton, Washington, on August 20, 2015.
Kevin Hull,
Acting Manager, Transport Airplane Directorate, Aircraft Certification Service.

[FR Doc. 2015-21247 Filed 8-27-15; 8:45 am]

BILLING CODE 4910-13-P